THE NATIONAL FOUNDATION ON THE ARTS AND THE HUMANITIES

Meeting of National Council on the Humanities

AGENCY: The National Endowment for the Humanities.

ACTION: Notice of meeting.

Pursuant to the provisions of the Federal Advisory Committee Act (Pub. L. 92-463, as amended) notice is hereby given the National Council on the Humanities will meet in Washington, DC on March 3-4, 2011.

The purpose of the meeting is to advise the Chairman of the National Endowment for the Humanities with respect to policies, programs, and procedures for carrying out his functions, and to review applications for financial support from and gifts offered to the Endowment and to make recommendations thereon to the Chairman.

The meeting will be held in the Old Post Office Building, 1100 Pennsylvania Avenue, NW., Washington, DC. A portion of the morning and afternoon sessions on March 3-4, 2011, will not be open to the public pursuant to subsections (c)(4), (c)(6) and (c)(9)(B) of section 552b of Title 5, United States Code because the Council will consider information that may disclose: Trade secrets and commercial or financial information obtained from a person and privileged or confidential; information of a personal nature the disclosure of which would constitute a clearly unwarranted invasion of personal privacy; and information the premature disclosure of which would be likely to significantly frustrate implementation of proposed agency action. I have made this determination under the authority granted me by the Chairman's Delegation of Authority dated July 19, 1993.

The agenda for the sessions on March 3, 2011 will be as follows:

Committee Meetings

(Open to the Public)

Policy Discussion

9-10:30 a.m.

Digital Humanities—Room 402

Education Programs—Room M-07

Federal/State Partnership and Preservation and Access—Room 415

Public Programs—Room 421

Research Programs—Room 315

(Closed to the Public)

Discussion of Specific Grant Applications and Programs Before the Council

10:30 a.m. until Adjourned

Digital Humanities—Room 402

Education Programs—Room M-07

Federal/State Partnership and Preservation and Access—Room 415

Public Programs—Room 421

Research Programs—Room 315

The morning session of the meeting on March 4, 2011 will convene at 9 a.m., in the first floor Council Room M-09, and will be open to the public, as set out below. The agenda for the morning session will be as follows:

A. Minutes of the Previous Meeting

B. Reports

1. Introductory Remarks

2. Film Presentation

3. Staff Report

4. Congressional Report

5. Budget Report

6. Reports on Policy and General Matters

a. Digital Humanities

b. Education Programs

c. Federal/State Partnership

d. Preservation and Access

e. Public Programs

f. Research Programs

The remainder of the proposed meeting will be given to the consideration of specific applications and will be closed to the public for the reasons stated above.

Further information about this meeting can be obtained from Michael P. McDonald, Advisory Committee Management Officer, National Endowment for the Humanities, 1100 Pennsylvania Avenue, NW., Washington, DC 20506, or by calling (202) 606-8322, TDD (202) 606-8282. Advance notice of any special needs or accommodations is appreciated.

Michael P. McDonald,
Advisory Committee Management Officer.

[FR Doc. 2011-3618 Filed 2-16-11; 8:45 am]

BILLING CODE 7536-01-P